DEPARTMENT OF HEALTH AND HUMAN SERVICES

Administration for Children and Families

President's Committee for People With Intellectual Disabilities: Notice of Meeting

AGENCY: President's Committee for People with Intellectual Disabilities (PCPID), HHS.

ACTION: Notice of meeting.

DATES: Monday, May 9, 2005, from 3 p.m. to 5 p.m. (daylight savings time). The full committee meeting of the President's Committee for People with Intellectual Disabilities will be conducted by telephone conference call and will be open to the public. Anyone interested in participating in the conference call should advise Sally Atwater at 202-619-0634, no later than April 25, 2005.

ADDRESSES: While the meeting will be conducted by telephone conference call, if you would like to participate in the call with staff, please report to the Aerospace Center Office Building, 901 D Street, SW., Office of Public affairs Conference Room, 7th Floor West, Washington, DC no later than 2:45 p.m. (daylight savings time). Please bear in mind that space is limited.

The toll free number is: 1-800-857-9091, Passcode: May 2005 Quarterly Meeting. Individuals with disabilities who need accommodations in order to participate in the call (i.e., TTY, assistive listening devices, or materials in alternative format) should notify Sally Atwater at 202-619-0634 no later than April 25, 2005. Efforts will be made to meet special requests received after that date, but availability of special needs accommodations to respond to these requests cannot be guaranteed.

Agenda: The Committee plans to further refine topic areas chosen by the Committee members at the two previous Committee meetings: Comprehensive Health Care and Long Term Care, Dental Care, Housing and Aging of Caregivers, Emergency Preparedness and Direct Support Professional Challenges.

FOR FURTHER INFORMATION CONTACT: Sally Atwater, Executive Director, President's Committee for People with Intellectual Disabilities, Aerospace Center Building, Suite 701, 370 L'Enfant Promenade, SW., Washington, DC 20447, telephone—(202) 619-0634, Fax—(202) 205-9519, e-mail—satwater@acf.hhs.gov.

SUPPLEMENTARY INFORMATION: The PCPID acts in an advisory capacity to the President and the Secretary of Health and Human Services on a broad range of topics relating to programs, services, and supports for persons with intellectual disabilities. The Committee, by Executive Order, is responsible for evaluating the adequacy of current practices in programs, services and supports for persons with intellectual disabilities, and for reviewing legislative proposals that impact on the quality of life that is experienced by citizens with intellectual disabilities and their families.

Dated: March 31, 2005.
Sally Atwater,
Executive Director, President's Committee for People with Intellectual Disabilities.

[FR Doc. 05-6800 Filed 4-5-05; 8:45 am]

BILLING CODE 41894-01-M